DEPARTMENT OF THE TREASURY

Financial Crimes Enforcement Network; Proposed Collection; Comment Request; Suspicious Activity Report by Casinos and Card Clubs

AGENCY: Financial Crimes Enforcement Network.

ACTION: Notice and request for comments.

SUMMARY: As part of its continuing effort to reduce paperwork and respondent burden, the Financial Crimes Enforcement Network invites comment on a proposed information collection contained in a revised form, “Suspicious Activity Report by Casinos and Card Clubs, Financial Crimes Enforcement Network Form 102.” The form will be used by casinos and card clubs to report suspicious activity to the Department of the Treasury. This request for comments is being made pursuant to the Paperwork Reduction Act of 1995, Public Law 104-13, 44 U.S.C. 3506(c)(2)(A).

DATES: Written comments are welcome and must be received on or before March 28, 2006.

ADDRESSES: Written comments should be submitted to: Financial Crimes Enforcement Network, Department of the Treasury, P.O. Box 39, Vienna, Virginia 22183, Attention: Paperwork Reduction Act Comments—Suspicious Activity Report by Casinos Form. Comments also may be submitted by electronic mail to the following Internet address: regcomments@fincen.treas.gov, again with a caption, in the body of the text, “Attention: Paperwork Reduction Act Comments—Suspicious Activity Report by Casinos Form.”

Inspection of comments. Comments may be inspected, between 10 a.m. and 4 p.m., in the Financial Crimes Enforcement Network reading room in Washington, DC. Persons wishing to inspect the comments submitted must request an appointment by telephoning (202) 354-6400.

FOR FURTHER INFORMATION CONTACT: Regulatory Policy and Programs Division, at (800) 949-2732.

SUPPLEMENTARY INFORMATION: Title: Suspicious Activity Report by Casinos and Card Clubs.

OMB Number: 1506-0006.

Form Number: Financial Crimes Enforcement Network Form 102.

Abstract: The statute generally referred to as the “Bank Secrecy Act,” Titles I and II of Public Law 91-508, as amended, codified at 12 U.S.C. 1829b, 12 U.S.C. 1951-1959, and 31 U.S.C. 5311-5331, authorizes the Secretary of the Treasury, inter alia, to require financial institutions to keep records and file reports that are determined to have a high degree of usefulness in criminal, tax, and regulatory matters, or in the conduct of intelligence or counter-intelligence activities, to protect against international terrorism, and to implement counter-money laundering programs and compliance procedures.¹ Regulations implementing Title II of the Bank Secrecy Act appear at 31 CFR Part 103. The authority of the Secretary of the Treasury to administer the Bank Secrecy Act has been delegated to the Director of the Financial Crimes Enforcement Network.

¹ Language expanding the scope of the Bank Secrecy Act to intelligence or counter-intelligence activities to protect against international terrorism was added by section 358 of the Uniting and Strengthening America by Providing Appropriate Tools Required to Intercept and Obstruct Terrorism (USA PATRIOT ACT) Act of 2001 (the “USA Patriot Act”), Pub. L. 107-56.

The Secretary of the Treasury was granted authority in 1992, with the enactment of 31 U.S.C. 5318(g), to require financial institutions to report suspicious transactions.

The information collected on this revised form is required to be provided pursuant to 31 U.S.C. 5318(g) and 31 CFR 103.21. This information will be made available, in accordance with strict safeguards, to appropriate criminal law enforcement and regulatory personnel for use in official performance of their duties, for regulatory purposes and in investigations and proceedings involving domestic and international money laundering, tax violations, fraud, and other financial crimes.

Reports filed by casinos required to report suspicious transactions under 31 CFR 103.21, and any reports filed voluntarily by casinos or card clubs will be subject to the protection from liability contained in 31 U.S.C. 5318(g)(3) and the provision contained in 31 U.S.C. 5318(g)(2) which prohibits notification of any person involved in the transaction that a suspicious activity report has been filed.

A number of minor changes are being made to the current Suspicious Activity Report by Casinos to clarify and shorten the form. Item 1 is revised by adding a new box 1(a) to indicate if the Suspicious Activity Report by Casinos is an updated report and by adding a new box 1(b) to indicate if the report is a jointly filed report. Part III, Law Enforcement or Regulatory Contact Information, has been deleted, and the remaining parts of the form have been renumbered accordingly. Information about law enforcement or regulatory contacts should be entered in renumbered Part V, Suspicious Activity Information—Narrative, as explained in the revised instructions to that part. Renumbered Part III, Reporting Casino or Card Club Information, has been revised to record information about a joint filing. Renumbered Part IV, Contact for Assistance, has been revised so that it no longer requires the name and title of the filer. A number of minor editorial changes have also been made to the instructions to the form, including explaining how to complete critical fields when information is not known and updating the Post Office box number to use when filing the form by mail.

The draft revised Suspicious Activity Report by Casinos is presented only for purposes of soliciting public comment on the form. The draft form should not be used at this time to report suspicious activity. A final version of the form will be made available at a later date.

Type of Review: Revision of a currently approved information collection.

Affected Public: Business or other for-profit institutions.

Frequency: As required.

Estimated Burden: Reporting average of 45 minutes per response. This burden relates to the completion of the form. The recordkeeping burden of 31 CFR 103.21 is reflected in the final rule requiring casinos and card clubs to file reports of suspicious activity.

Estimated Number of Respondents: 600.

Estimated Total Annual Responses: 6,100.

Estimated Total Annual Burden Hours: 4,575 hours.

An agency may not conduct or sponsor, and a person is not required to respond to, a collection of information unless the collection of information displays a valid Office of Management and Budget control number. Records required to be retained under the Bank Secrecy Act must be retained for five years.

Request for Comments

Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected: (d) ways to minimize the burden of the collection of information on respondents, including through the use of automated collection techniques or other forms of information technology; and (e) estimates of capital or start-up costs and costs of operation, maintenance and purchase of services to provide information.

Dated: January 20, 2006.
William J. Fox,
Director, Financial Crimes Enforcement Network.

Attachment: Suspicious Activity Report by Casinos

BILLING CODE 4810-02-P

[FR Doc. 06-784 Filed 1-26-06; 8:45 am]

BILLING CODE 4810-02-C